ENVIRONMENTAL PROTECTION AGENCY

[EPA-R08-SFUND-2024-0470; FRL-12305-01-R8]

Cashout Settlement Agreement: Broderick Wood Products, Superfund Site, Adams County, Colorado, Broderick Investment Company

AGENCY: Environmental Protection Agency (EPA).

ACTION: Notice of proposed agreement; request for public comment.

SUMMARY: Notice is hereby given by the U.S. Environmental Protection Agency (EPA), Region 8, of a Cashout Agreement between the United States on behalf of the EPA, the State of Colorado (State), and Broderick Investment Company (Settling Party), at the Broderick Wood Products Superfund Site (Site) located in Adams County, Colorado. By entering into this Settlement Agreement, the mutual objective of the Parties is to avoid difficult and prolonged litigation by allowing Settling Party to make a cash payment to address its alleged civil liability for the Site.

DATES: Comments must be submitted on or before December 9, 2024.

ADDRESSES: The proposed agreement and additional background information relating to the agreement will be available upon request and will be posted at https://www.epa.gov/superfund. Comments and requests for an electronic copy of the proposed agreement should be addressed to Natalie Timmons, Enforcement Specialist, Superfund and Emergency Management Division, Environmental Protection Agency—Region 8, Mail Code 8SEM-PAC, 1595 Wynkoop Street, Denver, Colorado 80202, telephone number: (303) 312-6385 or email address: timmons.natalie@epa.gov and should reference the Broderick Wood Products Superfund Site. You may also send comments, identified by Docket ID No. EPA-R08-SFUND-2024-0470 to https://www.regulations.gov. Follow the online instructions for submitting comments.

FOR FURTHER INFORMATION CONTACT: Kayleen Castelli, General Attorney, Office of Regional Counsel, Environmental Protection Agency, Region 8, Mail Code 8 ORC-LEB-CES_1595 Wynkoop, Denver, Colorado 80202, telephone number: (303) 312-6174, email address: castelli.kayleen@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

(In accordance with the section 122(h) of the Comprehensive Environmental Response, Compensation, and Liability Act of 1980, as amended (“CERLCA”))

Aaron Urdiales,
Division Director, Superfund and Emergency Management Division, Region 8.

[FR Doc. 2024-25830 Filed 11-7-24; 8:45 am]

BILLING CODE 6560-50-P